DEPARTMENT OF TRANSPORTATION

Federal Aviation Administration

14 CFR Part 71

[Docket No. FAA-2013-0757; Airspace Docket No. 13-ASO-19]

Amendment of Class D and Class E Airspace; Christiansted, St. Croix, VI

AGENCY: Federal Aviation Administration (FAA), DOT.

ACTION: Final rule.

SUMMARY: This action amends the Class D and Class E airspace at Christiansted, St. Croix, VI, by adjusting the geographic coordinates of Henry E. Rohlsen Airport. The airport name also is changed from Alexander Hamilton Airport. This action brings current the effected charting and enhances airspace management within the National Airspace System.

DATES: Effective 0901 UTC, April 3, 2014. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On December 2, 2013, the FAA published in the Federal Register a notice of proposed rulemaking (NPRM) to modify Class D airspace and Class E airspace extending upward from 700 feet above the surface by changing the airport name and amending the geographic coordinates of Henry E. Rohlsen Airport, Christiansted, St. Croix, VI, to bring it in concert with the FAAs aeronautical database (78 FR 72056). Interested parties were invited to participate in this rulemaking effort by submitting written comments on the proposal to the FAA. No comments were received.

Class D and E airspace designations are published in paragraphs 5000, and 6005, respectively of FAA Order 7400.9X dated August 7, 2013, and effective September 15, 2013, which is incorporated by reference in 14 CFR 71.1. The Class D and Class E airspace designations listed in this document will be published subsequently in the Order.

The Rule

This amendment to Title 14, Code of Federal Regulations (14 CFR) part 71 modifies Class D airspace and Class E airspace extending upward from 700 feet above the surface airspace by amending the geographic coordinates of Henry E. Rohlsen Airport, Christiansted, St. Croix, VI, to bring it in concert with the FAAs aeronautical database. The coordinates are changed from (lat. 17°42′07″ N., long. 64°47′55″ W.) to (lat. 17°42′06″ N., long. 64°48′06″ W.). Also, the airport formerly called Alexander Hamilton Airport is changed to Henry E. Rohlsen Airport.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Henry E. Rohlsen Airport, Christiansted, St. Croix, VI.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71:

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9X, Airspace Designations and Reporting Points, dated August 7, 2013, effective September 15, 2013, is amended as follows:

Paragraph 5000 Class D Airspace

* * * * *

ASO VI D Christiansted St. Croix, VI [Amended]

Henry E. Rohlsen Airport, VI

(Lat. 17°42′06″ N., long. 64°48′06″ W.)

That airspace extending upward from the surface to and including 2,500 feet MSL within a 5.7-mile radius of Henry E. Rohlsen Airport. This Class D airspace area is effective during the specific dates and times established in advance by a Notice to Airmen. The effective date and time will thereafter be continuously published in the Airport/Facility Directory.

Paragraph 6005 Class E Airspace Areas Extending Upward From 700 Feet or More Above the Surface of the Earth

* * * * *

ASO VI E5 Christiansted St. Croix, VI [Amended]

Henry E. Rohlsen Airport, VI

(Lat. 17°42′06″ N., long. 64°48′06″ W.)

St Croix VOR/DME

(Lat. 17°44′04″ N., long. 64°42′03″ W.)

PESTE NDB

(Lat. 17°41′31″ N., long. 64°53″05″ W.)

That airspace extending upward from 700 feet above the surface within a 7.4-mile radius of Henry E. Rohlsen Airport, and within 3 miles each side of St. Croix VOR/DME 069° radial, extending from the 7.4-mile radius to 7 miles east of the VOR/DME; and that airspace extending upward from 1,200 feet above the surface within a 13-mile radius of Henry E. Rohlsen Airport, and within 8 miles north and 4 miles south of the St. Croix VOR/DME 069° radial, extending from the 13-mile radius to 16 miles east of the VOR/DME, and within 8 miles south and 4 miles north of the ILS localizer west course, extending from the 13-mile radius to 16 miles west of the PESTE NDB.

Issued in College Park, Georgia, on February 4, 2014.
Eric Fox,
Acting Manager, Operations Support Group, Eastern Service Center, Air Traffic Organization.

[FR Doc. 2014-03061 Filed 2-12-14; 8:45 am]

BILLING CODE 4910-13-P